DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one or more entries currently included on OFAC's Specially Designated Nationals and Blocked Persons List (SDN List) and Sectoral Sanctions Identifications List (SSI List).

DATES: See Supplementary Information for relevant dates.

FOR FURTHER INFORMATION CONTACT: OFAC: Associate Director for the Office of Sanctions Support and Operations, 202-622-6943; Associate Director for Global Targeting, 202-622-2420; or https://ofac.treasury.gov/contact-ofac.

SUPPLEMENTARY INFORMATION:

Electronic Availability

The SDN List, SSI List, and additional information concerning OFAC sanctions programs are available on OFAC's website: https://ofac.treasury.gov.

Notice of OFAC Actions

On January 8, 2026, OFAC updated the following names to improve data standardization and consistency and/or to correct records that were published with minor errors. The names and relevant sanctions authorities listed at the URL below: https://ofac.treasury.gov/recent-actions/20260108.

(Authority: 31 CFR chapter V.)

Bradley T. Smith,
Director, Office of Foreign Assets Control. Department of the Treasury.

[FR Doc. 2026-00745 Filed 1-14-26; 8:45 am]

BILLING CODE 4810-AL-P